DEPARTMENT OF ENERGY

[FE Docket Nos. 11-128-LNG and 16-205-LNG]

Dominion Energy Cove Point LNG, LP; Notice of Change in Control

AGENCY: Office of Fossil Energy, DOE.

ACTION: Notice of change in control.

SUMMARY: The Office of Fossil Energy (FE) of the Department of Energy (DOE) gives notice of receipt of a Notification Regarding Planned Change in Indirect Ownership in Accordance with Procedures for Change in Control (Notice) filed October 23, 2019, by Dominion Energy Cove Point LNG, LP (DECP) in the above-referenced dockets. The Notice describes changes to the corporate structure and ownership of DECP. The Notice was filed under section 3 of the Natural Gas Act (NGA).

DATES: Protests, motions to intervene, or notices of intervention, as applicable, and written comments are to be filed using procedures detailed in the Public Comment Procedures section no later than 4:30 p.m., Eastern time, December 5, 2019.

ADDRESSES:

Electronic Filing by email: fergas@hq.doe.gov.

Regular Mail: U.S. Department of Energy (FE-34), Office of Regulation, Analysis, and Engagement, Office of Fossil Energy, P.O. Box 44375, Washington, DC 20026-4375.

Hand Delivery or Private Delivery Services (e.g., FedEx, UPS, etc.): U.S. Department of Energy (FE-34), Office of Regulation, Analysis, and Engagement, Office of Fossil Energy, Forrestal Building, Room 3E-042, 1000 Independence Avenue SW, Washington, DC 20585.

FOR FURTHER INFORMATION CONTACT:

Benjamin Nussdorf or Amy Sweeney, U.S. Department of Energy (FE-34), Office of Regulation, Analysis, and Engagement, Office of Fossil Energy, Forrestal Building, Room 3E-042, 1000 Independence Avenue SW, Washington, DC 20585, (202) 586-7893; (202) 586-2627.

Cassandra Bernstein or Kari Twaite, U.S. Department of Energy (GC-76), Office of the Assistant General Counsel for Electricity and Fossil Energy, Forrestal Building, 1000 Independence Avenue SW, Washington, DC 20585, (202) 586-9793; (202) 586-6978.

SUPPLEMENTARY INFORMATION:

Summary of Change in Control

DECP is the owner and operator of the Dominion Cove Point LNG Terminal in Lusby, Maryland, and a wholly-owned, indirect subsidiary of Dominion Energy, Inc. The Notice filed by DECP describes a planned transaction in which Bowie Acquisitions LLC (the Investor) will acquire a minority 25% limited partnership interest in DECP. The Investor is an affiliate of Brookfield Asset Management Inc. DECP states that, as a minority partner, the Investor will have an economic interest in DECP, along with voting rights with respect to certain major decisions. DECP states that it will remain the holder of the export authorizations and there will be no change in the operations of the DECP Terminal as a result of the transaction. DECP states that the parties expect to close the transaction in December 2019. Additional details can be found in DECP's Notice, posted on the DOE/FE website at: https://cms.doe.gov/sites/prod/files/2019/10/f68/DominionEnergyCovePoint_CIC_filing_10232019_0.pdf.

DOE/FE Evaluation

DOE/FE will review DECP's Notice in accordance with its Procedures for Changes in Control Affecting Applications and Authorizations to Import or Export Natural Gas (CIC Procedures).¹ Consistent with the CIC Procedures, this notice addresses only the authorization granted to DECP to export liquefied natural gas (LNG) to non-free trade agreement (non-FTA) countries in DOE/FE Order No. 3331-A (FE Docket No. 11-128-LNG), and the non-FTA portion of the authorization issued in DOE/FE Order No. 4046 (FE Docket No. 16-205-LNG).² If no interested person protests the change in control and DOE takes no action on its own motion, the proposed change in control will be deemed granted 30 days after publication in the Federal Register. If one or more protests are submitted, DOE will review any motions to intervene, protests, and answers, and will issue a determination as to whether the proposed change in control has been demonstrated to render the underlying authorization inconsistent with the public interest.

¹ 79 FR 65541 (Nov. 5, 2014).

² DECP's Notice also applies to its existing FTA authorizations, but DOE/FE will respond to that portion of the Notice separately pursuant to the CIC Procedures, 79 FR 65542.

Public Comment Procedures

Interested persons will be provided 15 days from the date of publication of this notice in the Federal Register in order to move to intervene, protest, and answer DECP's Notice. Protests, motions to intervene, notices of intervention, and written comments are invited in response to this notice only as to the change in control described in DECP's Notice, and only with respect to DECP's non-FTA authorizations. All protests, comments, motions to intervene, or notices of intervention must meet the requirements specified by DOE's regulations in 10 CFR part 590.

Filings may be submitted using one of the following methods: (1) Preferred method: emailing the filing to fergas@hq.doe.gov; (2) mailing an original and three paper copies of the filing to the Office of Regulation, Analysis, and Engagement at the address listed in ADDRESSES; or (3) hand delivering an original and three paper copies of the filing to the Office of Regulation, Analysis, and Engagement at the address listed in ADDRESSES. All filings must include a reference to the individual FE Docket Number(s) in the title line, or Dominion Energy Cove Point LNG, LP Change in Control in the title line. Please Note: If submitting a filing via email, please include all related documents and attachments (e.g., exhibits) in the original email correspondence. Please do not include any active hyperlinks or password protection in any of the documents or attachments related to the filing. All electronic filings submitted to DOE must follow these guidelines to ensure that all documents are filed in a timely manner. Any hardcopy filing submitted greater in length than 50 pages must also include, at the time of the filing, a digital copy on disk of the entire submission.

DECP's Notice and any filed protests, motions to intervene, notices of intervention, and comments are available for inspection and copying in the Office of Regulation, Analysis, and Engagement docket room, Room 3E-042, 1000 Independence Avenue SW, Washington, DC 20585. The docket room is open between the hours of 8:00 a.m. and 4:30 p.m., Monday through Friday, except Federal holidays.

The Notice and any filed protests, motions to intervene, notices of intervention, and comments will also be available electronically by going to the following DOE/FE Web address: http://www.fe.doe.gov/programs/gasregulation/index.html.

Signed in Washington, DC, on November 14, 2019.
Amy Sweeney,
Director, Office of Regulation, Analysis, and Engagement, Office of Oil and Natural Gas.

[FR Doc. 2019-25136 Filed 11-19-19; 8:45 am]

BILLING CODE 6450-01-P